DEPARTMENT OF LABOR

Employment and Training Administration

[TA-W-50,409 and TA-W-50,409A]

International Comfort Products Corp. (USA), a Wholly Owned Subsidiary of United Technologies Corp., and an Affiliate of Carrier Corp., Lewisburg, TN, ICP Warehouse, Lewisburg, TN; Amended Certification Regarding Eligibility To Apply for Worker Adjustment Assistance

In accordance with section 223 of the Trade Act of 1974 (19 U.S.C. 2273) the Department of Labor issued a Certification of Eligibility to Apply for Worker Adjustment Assistance on February 3, 2003, applicable to workers of International Comfort Products Corp. (USA), a wholly owned subsidiary of United Technologies Corp. and an affiliate of Carrier Corp., Lewisburg, Tennessee. The notice was published in the Federal Register on February 24, 2003 (68 FR 8620).

At the request of the Boilermakers Union, Local 52, the Department reviewed the certification for workers of the subject firm. The workers are engaged in the production of heating, ventilation, and air-conditioning equipment.

Information shows that worker separations occurred at the ICP Warehouse, Lewisburg, Tennessee location of the subject firm. The ICP Warehouse provides warehousing and shipping services for the subject firm.

Accordingly, the Department is amending the certification to include workers of the ICP Warehouse, Lewisburg, Tennessee.

The intent of the Department's certification is to include all workers of International Comfort Products Corp. (USA), a wholly owned subsidiary of United Technologies Corp., and an affiliate of Carrier Corp. adversely affected by increased imports.

The amended notice applicable to TA-W-50,409 is hereby issued as follows:

All workers of International Comfort Products Corp. (USA), a wholly owned subsidiary of United Technologies Corp. and an affiliate of Carrier Corp., Lewisburg, Tennessee (TA-W-50,409), and ICP Warehouse, Lewisburg, Tennessee (TA-W-50,409A), who became totally or partially separated from employment on or after December 5, 2001, through February 3, 2005, are eligible to apply for adjustment assistance under section 223 of the Trade Act of 1974.

Signed at Washington, DC, this 18th day of May, 2003.
Linda G. Poole,
Certifying Officer, Division of Trade Adjustment Assistance.

[FR Doc. 03-16898 Filed 7-2-03; 8:45 am]

BILLING CODE 4510-30-P